SECURITIES AND EXCHANGE COMMISSION

[Release No. 34-53060; File No. 10-137]

Acknowledgement of Receipt of Notice of Registration as a National Securities Exchange Pursuant to Section 6(g) of the Securities Exchange Act of 1934 by the Board of Trade of the City of Chicago, Inc.

January 5, 2006.

Section 6(g) of the Securities Exchange Act of 1934 (“Act”) ¹ provides that an exchange may register as a national securities exchange for the sole purpose of trading security futures products by filing a written notice with the Securities and Exchange Commission (“Commission”) if such exchange is a board of trade, as that term is defined by the Commodity Exchange Act,² that is designated as a contract market by the Commodity Futures Trading Commission or registered as a derivative transaction execution facility under Section 5a of the Commodity Exchange Act.³ Rule 6a-4 under the Act ⁴ requires that such an exchange submit written notice of registration to the Commission on Form 1-N.⁵ An exchange's registration as a national securities exchange becomes effective contemporaneously with the submission of the written notice on Form 1-N.⁶

¹ 15 U.S.C. 78f(g).

² 7 U.S.C. 1a(2).

³ 7 U.S.C. 7a.

⁴ 17 CFR 240.6a-4.

⁵ Upon receipt of a Form 1-N, the Division of Market Regulation examines the notice to determine whether all necessary information has been supplied and whether all other required documents have been furnished in proper form. Rule 202.3(b)(3) of the Commission's Procedural Rules, 17 CFR 202.3(b)(3).

⁶ Section 6(g)(2)(B) of the Act, 15 U.S.C. 78f(g)(2)(B).

On December 19, 2005, the Board of Trade of the City of Chicago, Inc. (“CBOT”) filed a Form 1-N with the Commission. Pursuant to Section 6(g)(3) of the Act,⁷ the Commission hereby acknowledges receipt of the Form 1-N submitted by CBOT. Copies of the Form 1-N, including all exhibits, are available in the Commission's Public Reference Room, File No. 10-137.

⁷ 15 U.S.C. 78f(g)(3).

For questions regarding this Release, please contact Nathan Saunders, Special Counsel, at (202) 551-5515 or Molly M. Kim, Attorney, at (202) 551-5644; Division of Market Regulation, Securities and Exchange Commission, Station Place, 100 F Street, NE., Washington, DC 20549-6628.

For the Commission, by the Division of Market Regulation, pursuant to delegated authority.⁸
⁸ 17 CFR 200.30-3(a)(75).
Nancy M. Morris,
Secretary.

[FR Doc. E6-366 Filed 1-13-06; 8:45 am]

BILLING CODE 8010-01-P